DEPARTMENT OF THE INTERIOR

Bureau of Indian Affairs

Proposed Information Collection Under the Paperwork Reduction Act; Comment Request

AGENCY: Bureau of Indian Affairs, Interior.

ACTION: Notice of proposed collection.

SUMMARY: As required by the Paperwork Reduction Act of 1995, we are renewing the information collection found in the general Probate of Indian Decedents' Estates, Except for Members of the Five Civilized Tribes regulations. The purpose of this data collection is to ensure that Probate regulations are administered for the benefit of individual Indians and any persons having claims against an Indian decedent's estate.

DATES: Comments on this proposed information collection must be received by January 2, 2007.

ADDRESSES: Send comments to William Titchywy, Bureau of Indian Affairs, Office of Trust Services, Special Projects Office, 10th Floor, P.O. Box 10, Phoenix, AZ 85001-0010. Comments may also be telefaxed to (602) 379-4005. We cannot accept E-mail comments at this time.

FOR FURTHER INFORMATION CONTACT: William Titchywy, 602-379-4002.

SUPPLEMENTARY INFORMATION: The information provided through collection requirements is used by the Department of the Interior, Bureau of Indian Affairs (BIA), to determine heirs and divide any funds held by the BIA for an Indian decedent and to divide the decedent's trust and restricted real property. The information is specifically used by the BIA in:

(a) Instructing an individual in starting the probate process;

(b) Preparing a probate package for review;

(c) Filing claims;

(d) Disbursing assets; and

(e) Filing appeals for adverse decisions.

Request for Comments

The BIA requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as facilitating use of automation for collection techniques or other forms of information technology.

Please note that an agency may not sponsor or request and an individual need not respond to, a collection of information unless it has a valid OMB Control Number.

It is our policy to make all comments available to the public for review at the location listed in the ADDRESSES section, 10th Floor, during the hours of 8:30 a.m. to 5 p.m. MST, Monday through Friday except for legal holidays. If you wish to have your name and/or address withheld, you must state this prominently at the beginning of your comments. We will honor your request according to the requirements of the law. All comments from organizations or representatives will be available for review. We may withhold comments from review for other reasons.

OMB Control Number: 1076-0156.

Type of Review: Renewal.

Title: Probate of Indian Estates, Except for Members of the Five Civilized Tribes, 25 CFR 15.

Brief Description of collection: Information is collected through the probate process when the BIA learns of a decedent's death from a family member, neighbor, friend or any other person or agency. The information, together with specific documents, is used to determine if the decedent owned a trust estate, to prepare a probate package and to distribute estate assets. Respondents must inform the BIA if any of the required information or documents are not available.

Respondents: Possible respondents include: Individual tribal members, individual non-Indians, individual tribal member-owned businesses, non-Indian owned businesses, tribal governments, and land owners who are seeking a benefit.

Number of Respondents: 37,477 annually.

Annual hours: 179,868.

Estimated Time per Response: 5 hours.

Frequency of Response: As required.

Dated: October 27, 2006.
Michael D. Olsen,
Principal Deputy Assistant Secretary—Indian Affairs.

[FR Doc. E6-18399 Filed 10-31-06; 8:45 am]

BILLING CODE 4310-W7-P